DEPARTMENT OF HOMELAND SECURITY

Coast Guard

[Docket No. USCG-2011-0705]

Merchant Marine Personnel Advisory Committee

AGENCY: Coast Guard, DHS.

ACTION: Notice of Federal Advisory Committee meeting.

SUMMARY: The Merchant Marine Personnel Advisory Committee (MERPAC) will meet on October 6, 2011 and October 7, 2011 in Washington, DC to discuss various issues related to the training and fitness of merchant marine personnel. This meeting will be open to the public.

DATES: MERPAC working groups will meet on October 6, 2011, from 8 a.m. until 4 p.m., and the full committee will meet on October 7, 2011, from 8 a.m. until 4 p.m. This meeting may adjourn early if all business is finished. Written comments to be distributed to committee members and placed on MERPAC's website are due September 23, 2011.

ADDRESSES: The Committee will meet in Room 2501 of Coast Guard Headquarters, 2100 Second Street, SW., Washington, DC 20593. To facilitate public participation, we are inviting public comment on the issues to be considered by the committee and working groups. Written comments must be identified by Docket No. USCG-2011-0705 and submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

Any requests to make oral presentations should be made in advance using one of the methods highlighted above. This notice may be viewed in our online docket, USCG-2011-0705, at http://www.regulations.gov. We request that members of the public who plan to attend this meeting notify Mr. Rogers Henderson at 202-372-1408 no later than October 3, 2011, so that he may notify building security officials. Attendees will be required to provide a picture identification card in order to gain admittance to the Coast Guard Headquarters building.

FOR FURTHER INFORMATION CONTACT: Mr. Mark Gould, Alternate Designated Federal Officer (ADFO) to the Designated Federal Officer (DFO) of MERPAC, telephone 206-728-1368.

SUPPLEMENTARY INFORMATION: Notice of this meeting is given under the Federal Advisory Committee Act, 5 U.S.C. App. (Pub. L. 92-463).

MERPAC is an advisory committee authorized under section 871 of the Homeland Security Act of 2002, Title 6, United States Code, section 451, and chartered under the provisions of the FACA. The Committee will act solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

Agenda of Meeting

Day 1

The agenda for the October 6, 2011, meeting is as follows:

(1) The full committee will meet briefly to discuss the working groups' business/task statements, which are listed under paragraph 2 below.

(2) Working groups addressing the following task statements, available for viewing at http://homeport.uscg.mil/merpac will meet to deliberate:

(a) Task Statement 58, concerning Stakeholder Communications during Merchant Mariner Licensing and Documentation Program (MLD) Restructuring and Centralization;

(b) Task Statement 71, concerning Review of USCG/IMO Operational Level Examination (3rd Mate/2nd Mate and 3rd/2nd Assistant Engineer) Topics and Questions and Alignment with the STCW Code;

(c) Task Statement 75, concerning Review of the Supplemental Notice of Proposed Rulemaking Concerning the Implementation of the Amendments to the International Convention on Standards of Training, Certification and Watchkeeping for Seafarers, 1978, and Changes to Domestic Endorsements;

(d) Task Statement 76, concerning Review of Performance Measures (Assessment Criteria); and

(e) Task Statement 77, concerning Development of Performance Measures (Assessment Criteria).

(3) If time allows, working groups addressing the following task statements, available for viewing at http://homeport.uscg.mil/merpac may meet to deliberate:

(a) Task Statement 30, concerning Utilizing Military Education, Training and Assessment for STCW (the International Convention on Standards of Training, Certification & Watchkeeping for Seafarers (1978), as amended) and U.S. Coast Guard Certifications;

(b) Task Statement 73, concerning Development of Training Guidance for Engineers Serving on Near-Coastal Vessels; and

(c) Task Statement 74, concerning Merchant Mariner Credential (MMC) Components.

(4) The Coast Guard may form new working groups to address any additional issues emanating from the existing task statements.

(5) Reports of working groups. At the end of the day, the working groups will make a report to the full committee on what was accomplished in their meetings. The full committee will not take action on these reports on this date. Any official action taken as a result of this working group meeting will be taken on day 2 of the meeting.

(6) Adjournment of meeting.

Day 2

The agenda for the October 7, 2011, Committee meeting is as follows:

(1) Introduction;

(2) Remarks from Coast Guard Leadership, Mr. Jeff Lantz;

(3) Introduction of the new members;

(4) Roll call of committee members and determination of a quorum;

(5) DFO announcements;

(6) Reports from the following working groups;

(a) Task Statement 30, concerning Utilizing Military Education, Training and Assessment for STCW and U.S. Coast Guard Certifications;

(b) Task Statement 58, concerning Stakeholder Communications during MLD Program Restructuring and Centralization;

(c) Task Statement 71, concerning Review of USCG/IMO Operational Level Examination (3rd Mate/2nd Mate and 3rd/2nd Assistant Engineer) Topics and Questions and Alignment with the STCW Code;

(d) Task Statement 73, concerning Development of Training Guidance for Engineers Serving on Near-Coastal Vessels;

(e) Task Statement 74, concerning Merchant Mariner Credential (MMC) Components;

(f) Task Statement 75, concerning Review of the Supplemental Notice of Proposed Rulemaking Concerning the Implementation of the Amendments to the International Convention on Standards of Training, Certification and Watchkeeping for Seafarers, 1978, and Changes to Domestic Endorsements;

(g) Task Statement 76, concerning Review of Performance Measures (Assessment Criteria); and

(h) Task Statement 77, concerning Development of Performance Measures (Assessment Criteria).

(7) Other items which will be discussed:

(a) Report on National Maritime Center (NMC) activities from NMC Commanding Officer;

(b) Reporting on IMO/ILO related activities; and

(c) Briefings concerning on-going Coast Guard projects related to personnel in the U.S. Merchant Marine.

(8) Period for public comments/presentations.

(9) Discussion of working group recommendations. The committee will review the information presented on each issue, deliberate on any recommendations presented by the working groups and approve/formulate recommendations for the Department's consideration. Official action on these recommendations may be taken on this date.

(10) Closing remarks/plans for next meeting.

(11) Adjournment of meeting.

Procedural: This meeting will be open to the public. Please note that the meeting may adjourn early if all business is finished.

A copy of all meeting documentation is available at the https://www.fido.gov Web site or by contacting Mark Gould. Once you have accessed the MERPAC Committee page, click on the meetings tab and then the “View” button for the meeting dated 10/6/2011 to access the information for this meeting. Minutes will be available 90 days after this meeting. Both minutes and documents applicable for this meeting can also be found at an alternative site using the following Web address: https://homeport.uscg.mil and use these key strokes: Missions; Port and Waterways Safety; Advisory Committees; MERPAC; and then use the event key.

Public participation: To facilitate public participation, we are inviting public comment on the issues to be considered by the committee and working groups. Written comments must be identified by Docket No. USCG-2011-0705 and submitted by one of the methods specified in ADDRESSES. Written comments received will be posted without alteration at http://www.regulations.gov, including any personal information provided. Anyone can search the electronic form of comments received into the docket by the name of the individual submitting the comment (or signing the comment, if submitted on behalf of an association, business, labor union, etc.). For access to the docket to read background documents or comments received in response to this notice, go to http://www.regulations.gov. An opportunity for public oral comment will be held during the MERPAC public meeting on October 7, 2011. Speakers are requested to limit their comments to 3 minutes. Please note that the public oral comment period may end before the prescribed ending time indicated following the last call for comments. Contact Mark Gould at Mark.C.Gould@uscg.mil to register as a speaker.

Information on services for individuals with disabilities: For information on facilities or services for individuals with disabilities or to request special assistance at the meeting, contact the ADFO as soon as possible.

Dated: August 10, 2011.
J.G. Lantz,
Director of Commercial Regulations and Standards.

[FR Doc. 2011-20826 Filed 8-15-11; 8:45 am]

BILLING CODE 9110-04-P